DEPARTMENT OF HEALTH AND HUMAN SERVICES

Centers for Disease Control and Prevention

Disease, Disability, and Injury Prevention and Control Special Emphasis Panel: Occupational Safety and Health Training Projects Grants, Request for Applications (RFA) 06-484; Occupational Safety and Health Educational Research Centers, RFA 06-485

In accordance with section 10(a)(2) of the Federal Advisory Committee Act (Pub. L. 92-463), the Centers for Disease Control and Prevention (CDC) announces the aforementioned meeting:

Times and Dates:8:30 a.m.-5 p.m., December 11, 2008 (Closed).8:30 a.m.-5 p.m., December 12, 2008 (Closed).

Place: Harbour View Inn, 2 Vendue Range, Charleston, South Carolina 29401, Telephone (843) 853-8439.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of “Occupational Safety and Health Training Projects Grants, RFA 06-484; Occupational Safety and Health Educational Research Centers, RFA 06-485.”

There will be a site visit at the University of California, Los Angeles (UCLA), on November 11-13, 2008; to advise and make recommendations to the Disease, Disability, and Injury Prevention and Control SEP: Occupational Safety and Health Training Projects Grants, RFA 06-484; Occupational Safety and Health Educational Research Centers, RFA 06-485.

Times, Dates, and Place of site visit:

Times and Dates:7 a.m.-9 p.m., November 11, 2008.8 a.m.-6:30 p.m., November 12, 2008.8 a.m.-5 p.m., November 13, 2008.

Place: UCLA Guest House, 330 Charles E. Young Drive East, Los Angeles, California 90095.

Contact Person for More Information: Dr. M. Chris Langub, Ph.D., Scientific Review Administrator, 1600 Clifton Road NE., Mailstop E74, Atlanta, GA 30333, telephone (404) 498-2543.

The Director, Management Analysis and Services Office, has been delegated the authority to sign Federal Register notices pertaining to announcements of meetings and other committee management activities, for both CDC and the Agency for Toxic Substances and Disease Registry.

Dated: October 1, 2008.
Elaine L. Baker,
Director, Management Analysis and Services Office, Centers for Disease Control and Prevention.

[FR Doc. E8-23809 Filed 10-9-08; 8:45 am]

BILLING CODE 4163-18-P